INTERNATIONAL TRADE COMMISSION

[Investigation No. 332-586]

Foreign Censorship Part 2: Trade and Economic Effects on U.S. Businesses; Proposed Information Collection; Comment Request; Foreign Censorship Questionnaire

AGENCY: United States International Trade Commission.

ACTION: Notice of information collection.

SUMMARY: In accordance with the provisions of the Paperwork Reduction Act of 1995, the U.S. International Trade Commission (Commission or USITC) hereby gives notice that it plans to submit a request for approval of a questionnaire to the Office of Management and Budget (OMB) for review and requests public comment on its draft proposed collection.

DATES: To assure that the Commission will consider your comments, it must receive them no later than 60 days after publication of this notice in the Federal Register.

ADDRESSES: The project leaders for this investigation are Ricky Ubee, Shova KC, and George Serletis. Please direct all written comments to the project leaders via email at foreign.censorship@usitc.gov or by phone at 202-205-3493.

FOR FURTHER INFORMATION CONTACT: Ricky Ubee at 202-205-3493. Copies of the questionnaire and supporting investigation documents may be obtained at https://www.usitc.gov/foreigncensorship. Hearing-impaired individuals may obtain information on this matter by contacting the Commission's TDD terminal at 202-205-1810. General information concerning the Commission may also be obtained by accessing its website (http://www.usitc.gov).

SUPPLEMENTARY INFORMATION:

Purpose of Information Collection: The information requested by the questionnaire is for use by the Commission in connection with Investigation No. 332-586, Foreign Censorship Part 2: Trade and Economic Effects on U.S. Businesses, instituted under the authority of section 332(g) of the Tariff Act of 1930 (19 U.S.C. 1332(g)). This investigation and report were requested by the Committee on Finance (Committee) of the U.S. Senate on April 7, 2021 (revised from a request received January 4, 2021). This investigation was initiated on May 6, 2021 and notice was published on May 12, 2021 (86 FR 26064). The Committee's request includes a component that requires the use of survey data to provide an analysis of the trade and economic effects of foreign censorship policies and practices on affected businesses in the United States and their global operations. This questionnaire is therefore necessary to analyze foreign censorships impacts on (1) employment, (2) direct costs to businesses (e.g., compliance and entry costs), (3) foregone revenue and sales, (4) self-censorship, and (5) other effects the Commission considers relevant to respond to the Committee's request. The Commission will deliver its report to the Committee by July 5, 2022.

Summary of Proposal:

The Commission intends to submit the following draft information collection plan to OMB and invites public comment.

(1) Number of forms submitted: 1.

(2) Title of form: Foreign Censorship Questionnaire

(3) Type of request: New.

(4) Frequency of use: Industry questionnaire, single data gathering, scheduled for 2021.

(5) Description of respondents: U.S. businesses operating in China.

(6) Estimated number of respondents: 10,000.

(7) Estimated total number of hours to complete the questionnaire per respondent: 15 hours.

(8) Information obtained from the questionnaire that qualifies as confidential business information will be so treated by the Commission and not disclosed in a manner that would reveal the individual operations of a business.

I. Abstract

The Committee on Finance (Committee) of the U.S. Senate has requested the Commission to produce a report that analyzes the trade and economic effects of foreign censorship policies and practices on (1) employment, (2) direct costs to businesses (e.g., compliance and entry costs), (3) foregone revenue and sales, (4) self-censorship, and (5) other effects the Commission considers relevant for the Committee to know. This report is the second in a two-part series on the effects of foreign censorship.

II. Method of Collection

Respondents will be mailed a letter with a link and individual code for accessing the online form. Once the online form is complete, respondents will be directed to submit the form by selecting a submit button.

III. Request for Comments

Comments are invited on (1) whether the proposed collection of information is necessary; (2) the accuracy of the agency's estimate of the burden (including hours and cost) of the proposed collection of information; (3) ways to enhance the quality, utility, and clarity of the information to be collected; and (4) ways to minimize the burden of the collection of information on respondents, including through the use of automated collection techniques or other forms of information technology.

The draft questionnaire and other supplementary documents may be downloaded from the USITC website at https://www.usitc.gov/foreigncensorship.

Comments submitted in response to this notice will be summarized and/or included in the request for OMB approval of this information collection; they will also become a matter of public record.

By order of the Commission.
Issued: June 10, 2021.
Lisa Barton,
Secretary to the Commission.

[FR Doc. 2021-12579 Filed 6-15-21; 8:45 am]

BILLING CODE 7020-02-P